NUCLEAR REGULATORY COMMISSION

10 CFR Parts 70, 71, and 72

[NRC-2019-0032]

Pre-Application Communication and Scheduling for Accident Tolerant Fuel Submittals

AGENCY: Nuclear Regulatory Commission.

ACTION: Regulatory issue summary; issuance.

SUMMARY: The U.S. Nuclear Regulatory Commission (NRC) is issuing Regulatory Issue Summary (RIS) 2019-032, “Pre-Application Communication and Scheduling for Accident Tolerant Fuel Submittals.” This RIS seeks Accident Tolerant Fuel (ATF) scheduling information for pre-application activities, topical report submittals, and other licensing submittals from all addressees to help inform the NRC's budget and resource planning for the eventual review of ATF-related applications.

DATES: The RIS is available as of January 21, 2020.

ADDRESSES: Please refer to Docket ID NRC-2019-0032 when contacting the NRC about the availability of information regarding this document. You may obtain publicly-available information related to this document using any of the following methods:

• Federal Rulemaking Website: Go to https://www.regulations.gov and search for Docket ID NRC-2019-0032. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. Regulatory Issue Summary (RIS) 2019-032, “Pre-Application Communication and Scheduling for Accident Tolerant Fuel Submittals” is available in ADAMS under Accession No. ML19316B342.

• NRC's PDR: You may examine and purchase copies of public documents at the NRC's PDR, Room O1-F21, One White Flint North, 11555 Rockville Pike, Rockville, Maryland 20852.

• NRC's Public Website: This RIS is also available on the NRC's public website at https://www.nrc.gov/reading-rm/doc-collections/gen-comm/reg-issues/ (select “2019” and then select “RIS-19-03”).

FOR FURTHER INFORMATION CONTACT: Phillip Sahd, Office of Nuclear Reactor Regulation, telephone: 301-415-2314, email: Phillip.Sahd@nrc.gov and Marilyn Diaz, Office of Nuclear Material Safety Safeguards, telephone: 301-415-7110, email: Marilyn.Diaz@nrc.gov. Both are staff of the U.S. Nuclear Regulatory Commission, Washington, DC 20555-0001.

SUPPLEMENTARY INFORMATION: The NRC did not publish a notice of opportunity for public comment on this RIS in the Federal Register, because it pertains to an administrative aspect of the regulatory process that involves the voluntary submission of information on the part of addressees and does not represent a departure from current regulatory requirements.

Regulatory Issue Summary (RIS) 2019-032, “Pre-Application Communication and Scheduling for Accident Tolerant Fuel Submittals” is available in ADAMS under Accession No. ML19316B342.

As noted in the Federal Register issued on May 8, 2018 (83 FR 20858), this document is being published in the Rules section of the Federal Register to comply with publication requirements under title 1 of the Code of Federal Regulations chapter I.

Dated at Rockville, Maryland, this 9th day of January, 2020.
For the Nuclear Regulatory Commission.
Lisa M. Regner,
Branch Chief, Operating Experience Branch, Division of Reactor Oversight, Office of Nuclear Reactor Regulation.

[FR Doc. 2020-00477 Filed 1-17-20; 8:45 am]

BILLING CODE 7590-01-P